FEDERAL COMMUNICATIONS COMMISSION

47 CFR Part 73

[DA 04-1419; MB Docket No. 04-205, RM-10704; MB Docket No. 04-206, RM-10705]

Radio Broadcasting Services; Islamorada, FL and Pioche, NV

AGENCY: Federal Communications Commission.

ACTION: Proposed rule.

SUMMARY: This document proposes new allotments in separate communities, Islamorada, Florida, and Pioche, Nevada. The Audio Division requests comment on a petition filed by Paul B. Christensen, proposing the allotment of Channel 283C2 at Islamorada, Florida, as the community's first local aural transmission service. Channel 283C2 can be allotted to Islamorada in compliance with the Commission's minimum distance separation requirements with a site restriction of site 0.9 kilometers (0.6 miles) southwest of the community. The reference coordinates for Channel 283C2 at Islamorada are 24-55-05 NL and 80-38-04 WL. The Audio Division also requests comments on a petition filed by Micah Shrewsberry proposing the allotment of Channel 268C1 at Pioche, Nevada, as the community's second local aural transmission service. Channel 268C1 can be allotted to Pioche in compliance with the Commission's minimum distance separation requirements without a site restriction. The reference coordinates for Channel 268C1 at Pioche are 37-55-58 NL and 114-27-04 WL. See SUPPLEMENTARY INFORMATION, infra.

DATES: Comments must be filed on or before July 19, 2004, and reply comments on or before August 3, 2004.

ADDRESSES: Federal Communications Commission, 445 12th Street, SW., Washington, DC 20554. In addition to filing comments with the FCC, interested parties should serve the petitioner, his counsel, or consultant, as follows: Paul B. Christensen, Esq., Law Offices of Paul B. Christensen, PA, 3749 Southern Hills Drive, Jacksonville, Florida 32225; Micah Shrewsberry, PO Box 1030, Greencastle, Indiana 46135.

FOR FURTHER INFORMATION CONTACT: Victoria M. McCauley, Media Bureau, (202) 418-2180.

SUPPLEMENTARY INFORMATION: This is a synopsis of the Commission's Notice of Proposed Rule Making, MB Docket Nos. 04-205 and 04-206, adopted May 26, 2004 and released May 28, 2004. The full text of this Commission decision is available for inspection and copying during regular business hours at the FCC's Reference Information Center, Portals II, 445 12th Street, SW., Room CY-A257, Washington, DC 20554. The complete text of this decision may also be purchased from the Commission's duplicating contractor, Qualex International, Portals II, 445 12th Street, SW., Room CY-B402, Washington, DC 20554, telephone 202-863-2893, facsimile 202-863-2898, or via e-mail qualexint@aol.com.

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Florida, is amended by adding Islamorada, Channel 283C2.

3. Section 73.202(b), the Table of FM Allotments under Nevada, is amended by adding Channel 268C1 at Pioche.

Federal Communications Commission.
John A. Karousos,
Assistant Chief, Audio Division, Media Bureau.

[FR Doc. 04-13811 Filed 6-17-04; 8:45 am]

BILLING CODE 6712-01-P